DEPARTMENT OF TRANSPORTATION

Maritime Administration (MARAD)

Reports, Forms and Recordkeeping Requirements; Agency Information Collection Activity Under OMB Review

AGENCY: Maritime Administration, DOT.

ACTION: Notice and request for comments.

SUMMARY: In compliance with the Paperwork Reduction Act of 1995 (44 U.S.C. 3501 et seq.), this notice announces that the information collection abstracted below has been forwarded to the Office of Management and Budget (OMB) for review and comment. Described below is the nature of the information collection and its expected burden. The Federal Register notice with a 60-day comment period soliciting comments on the following collection was published on April 14, 2000, (65 FR 20257). Comments were due June 13, 2000. No comments were received.

DATES: Comments must be submitted on or before January 17, 2001.

FOR FURTHER INFORMATION CONTACT: Evie K. Chitwood, Office of Intermodal Development, 400 Seventh Street, SW, Room 7209, Washington, D.C. 20590, telephone number (voice) 202-366-5127, (fax) 202-366-6988.

SUPPLEMENTARY INFORMATION: Maritime Administration (MARAD).

Title of Collection: “Intermodal Access to U.S. Ports Survey” “Intermodal Access to U.S. Marine Terminals Survey.”

OMB Control Number: 2133-NEW.

Type of Request: Approval of a new information collection.

Affected Public: U.S. Ports and Terminals (including the top U.S. deepwater ports, the top container ports and the strategic ports as well as the major shallow draft ports).

Form(s): Forms MA-.

Abstract: The “Intermodal Access to U.S. Ports Survey” and the “Intermodal Access to U.S. Marine Terminals Survey” were designed to be a questionnaire of critical infrastructure impediments that impact the Nation's ports and marine terminals. The collection will provide key highway, truck, rail and waterside access data and will highlight the access impediments that affect the flow of cargo through U.S. ports and terminals. The annual data received will be used to statistically demonstrate the change in access impediments to the Nation's ports and terminals.

Annual Estimated Burden Hours: 81 Hours.

ADDRESSES: Send comments to the Office of Information and Regulatory Affairs, Office of Management and Budget, 725—17th Street, NW., Washington, DC 20503, Attention MARAD Desk Officer.

Comments: Comments should refer to the docket number that appears at the top of this document. Written comments may be submitted to the Docket Clerk, U.S. DOT Dockets, Room PL-401, 400 Seventh Street, SW., Washington, DC 20590. Comments may also be submitted by electronic means via the Internet at http://dmses.dot.gov/submit. Specifically, address whether this information collection is necessary for proper performance of the function of the agency and will have practical utility, and clarity of the information to be collected. All comments received will be available for examination at the above address between 10 a.m. and 5 p.m., Monday through Friday, except Federal Holidays. An electronic version of this document is available on the World Wide Web at http://dms.dot.gov.

By Order of the Maritime Administrator.
Dated: December 13, 2000.
Joel C. Richard,
Secretary, Maritime Administration.

[FR Doc. 00-32162 Filed 12-15-00; 8:45 am]

BILLING CODE 4910-81-P